NUCLEAR REGULATORY COMMISSION

[Docket No. 40-8502]

COGEMA Mining Incorporated

AGENCY: Nuclear Regulatory Commission.

ACTION: Final finding of no significant impact; notice of opportunity for hearing.

SUMMARY: The U. S. Nuclear Regulatory Commission (NRC) proposes to amend NRC Source Material License SUA-1341 to authorize the licensee, COGEMA Mining Incorporated (COGEMA) to conduct surface (land and structures) decommissioning according to the submitted plan.

An Environmental Assessment (EA) was performed by the NRC staff in support of its review of COGEMA's license amendment request, in accordance with the requirements of 10 CFR part 51. The conclusion of the Environmental Assessment is a Finding of No Significant Impact (FONSI) for the proposed licensing action.

FOR FURTHER INFORMATION CONTACT: Ms. Elaine Brummett, Fuel Cycle Licensing Branch, Division of Fuel Cycle Safety and Safeguards, Office of Nuclear Material Safety and Safeguards, U. S. Nuclear Regulatory Commission, Mail Stop T8-A33, Washington, DC 20555-0001. Telephone 301/415-6606.

SUPPLEMENTARY INFORMATION:

Background

The COGEMA Irigaray and Christensen Ranch In Situ Leach facilities are licensed by the U. S. Nuclear Regulatory Commission (NRC) under Source Materials License SUA-1341 to possess byproduct material in the form of uranium waste as well as other radioactive wastes generated by past uranium processing operations.

Summary of the Environmental Assessment

The NRC staff performed an appraisal of the environmental impacts associated with the surface decommissioning plan, in accordance with 10 CFR Part 51, Environmental Protection Regulations for Domestic Licensing and Related Regulatory Functions. The license amendment would authorize COGEMA to decontaminate structures (such as buildings) and equipment, remove contaminated soil and equipment for disposal, and restore the land according to the procedures and criteria present in the submitted plan. Ground water restoration has been addressed in a previous licensing action. The technical aspects of the surface decommissioning plan are discussed separately in a Technical Evaluation Report (TER) that will accompany the agency's final licensing action.

The results of the staff's appraisal of potential environmental impacts are documented in an EA placed in the docket file. Based on its review, the NRC staff has concluded that there are no significant environmental impacts associated with the proposed action.

Conclusions

The NRC staff has examined actual and potential impacts associated with the decommissioning plan, and has determined that the requested amendment of Source Material License SUA-1341, authorizing implementation of the surface decommissioning plan, will: (1) be consistent with requirements of 10 CFR part 40, Appendix A; (2) not be inimical to the public health and safety; and (3) not have long-term detrimental impacts on the environment. The following statements summarize the conclusions resulting from the staff's environmental assessment, and support the FONSI:

1. An acceptable environmental and effluent monitoring program is in place to monitor effluent releases and to detect if applicable regulatory limits are exceeded. Radiological effluents resulting from decommissioning activities are expected to remain below the regulatory limits.

2. Present and potential health risks to the public and risks of environmental damage from the proposed decommissioning were assessed. Given the remote location, limited activities requested, small area of impact, and past activities on the site, the staff determined that the risk factors for health and environmental hazards are insignificant.

Alternatives to the Proposed Action

The proposed action is to amend NRC Source Material License SUA-1341, for decommissioning of surface structures (buildings, well heads, piping) and land by removing the residual byproduct material to meet regulatory criteria and NRC recommended levels. The principal alternatives available to NRC are to:

1. Approve the license amendment request as submitted; or

2. Amend the license with such additional conditions as are considered necessary or appropriate to protect public health and safety and the environment; or

3. Deny the amendment request.

Based on its review, the NRC staff has concluded that the environmental impacts associated with the proposed action do not warrant either the limiting of COGEMA's plans necessary for license termination (all uranium recovery operations have ceased) or the denial of the license amendment. Additionally, in the TER prepared for this action, the staff has reviewed the licensee's proposed action with respect to the criteria for decommissioning, specified in 10 CFR 40.42 and Part 40, Appendix A, and has no basis for denial of the proposed action. Therefore, the staff considers that Alternative 1 is the appropriate alternative for selection.

Finding of No Significant Impact

The NRC staff has prepared an EA for the proposed renewal of NRC Source Material License SUA-1341. On the basis of this assessment, the NRC staff has concluded that the environmental impacts that may result from the proposed action would not be significant, and therefore, preparation of an Environmental Impact Statement is not warranted.

The EA and other documents related to this proposed action are available for public inspection and copying at the NRC Public Document Room, One White Flint North, 11555 Rockville Pike, Rockville, MD 20852.

Notice of Opportunity for Hearing

The Commission hereby provides notice that this is a proceeding on an application for a licensing action falling within the scope of 10 CFR Part 2, Subpart L, “Informal Hearing Procedures for Adjudications in Materials and Operators Licensing Proceedings,” of the Commission's Rules of Practice for Domestic Licensing Proceedings and Issuance of Orders. Pursuant to § 2.1205(a), any person whose interest may be affected by this proceeding may file a request for a hearing. In accordance with § 2.1205(d), a request for a hearing must be filed within thirty (30) days from the date of publication of this Federal Register notice. The request for a hearing must be filed with the Office of the Secretary either:

(1) By delivery to the Rulemakings and Adjudications Staff of the Office of the Secretary at One White Flint North, 11555 Rockville Pike, Rockville, MD 20852; or

(2) By mail or telegram addressed to the Secretary, U.S. Nuclear Regulatory Commission, Washington, DC 20555-0001, Attention: Rulemakings and Adjudications Staff.

In accordance with 10 CFR 2.1205(f), each request for a hearing must also be served, by delivering it personally or by mail to:

(1) The applicant, COGEMA Mining Incorporated, P.O. Box 730, Mills, WY 82644;

(2) The NRC staff, by delivery to the General Counsel, One White Flint North, 11555 Rockville Pike, Rockville, MD 20852, or

(3) By mail addressed to the General Counsel, U.S. Nuclear Regulatory Commission, Washington, DC 20555-0001.

In addition to meeting other applicable requirements of 10 CFR part 2 of the Commission's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

Any hearing that is requested and granted will be held in accordance with the Commission's “Informal Hearing Procedures for Adjudications in Materials and Operator Licensing Proceedings” in 10 CFR part 2, subpart L.

Dated at Rockville, Maryland, this 26th day of December, 2001.
For The Nuclear Regulatory Commission.
Melvyn Leach,
Chief, Fuel Cycle Licensing Branch, Division of Fuel Cycle Safety and Safeguards, Office of Nuclear Material Safety and Safeguards.

[FR Doc. 02-232 Filed 1-3-02; 8:45 am]

BILLING CODE 7590-01-P